DEPARTMENT OF THE INTERIOR

Bureau of Land Management

[LLWO350000.L14200000]

Cadastral Survey: Notice of Availability of the Next Edition of the Manual of Surveying Instructions

AGENCY: Bureau of Land Management, Interior.

ACTION: Notice of Availability.

SUMMARY: This notice announces the availability of the Bureau of Land Management's (BLM) 2009 edition of the Manual of Surveying Instructions (Manual) to support implementation of the policy, responsibility, coordination, and procedures the BLM uses to conduct official surveys of Federal lands and ownership interests delineated on the ground and described in the official records of the United States.

DATES: You may submit written comments on the Manual within 90 days following the date this Notice of Availability is published in the Federal Register.

FOR FURTHER INFORMATION CONTACT: Robert W. Dahl, Cadastral Surveyor, (202) 912-7344, Robert_W_Dahl@blm.gov. Persons who use a telecommunications device for the deaf (TDD) may call the Federal Information Relay Service (FIRS) at 1-800-877-8339 to contact the above individual during business hours. The FIRS is available 24 hours a day, seven days a week, to leave a message or question with the above individual. You will receive a reply during normal business hours.

ADDRESSES: You may submit comments by any of the following methods:

Fax: (202) 452-7708.

Mail: U.S. Department of the Interior, Director (350), Bureau of Land Management, Mail Stop 1000 LS, 1849 C St., NW., Attention: AD300, Washington, DC 20240.

Personal or messenger delivery: 1620 L Street, NW., Room 1000, Washington, DC 20036.

SUPPLEMENTARY INFORMATION:

Background

The Congress of the Confederation established the Public Land Survey System (PLSS) in 1785, under which our nation's public and private lands were systematically surveyed into the townships and sections we know today. Congress saw land surveys as a way to raise revenue for a cash-strapped nation and as necessary to bring order and to allow lands to be subdivided and sold to settlers and land speculators. The PLSS has formed the framework for all land title, both public and private, in all States except those formed from the territory of the original 13 colonies, Texas, and Hawaii.

The predecessor to the BLM, the General Land Office, first created the Manual of Surveying Instructions in 1855. Over the years, the Manual has become the standard by which 256 Federal Authority Surveyors, 278 Certified Federal Surveyors, and some 50,000 private surveyors adhere to in conducting surveys on the PLSS. All 50 States use the Manual for testing and licensing professional surveyors. The American Bar Association, and real estate and title insurance industries also look to the Manual for guidance.

Discussion of the Notice

This notice announces the availability of the 2009 edition of the Manual for use on surveys and resurveys of the official boundaries of all Federal lands and ownership interests authorized or approved by the BLM. The Manual provides instructions, supplemental information, guidance and examples to assure consistency with the Department of the Interior's Departmental Manual; the Federal Geographic Data Committee's Subcommittee on Cadastral Data's Cadastral Data Content Standard for the National Spatial Data Infrastructure; and the Office of Management and Budget's Circular No. A-16 revised, Coordination of Geographic Information and Related Spatial Data Activities. The Manual was last updated in 1973 and the 2009 edition is necessary to update the information and to reflect current BLM instructions and guidance. The public can review the 1973 edition on the BLM Web site at http://www.blm.gov/wo/st/en/prog/more/cadastralsurvey/tools.html. The 2009 edition of the Manual can be obtained through the Public Land Survey System Foundation Web site at http://www.blmsurveymanual.org. The Manual is based upon current law, regulation, policy, and procedures. The Manual reflects policy but is not a rulemaking. The Manual compiles in one document the updates to the law, regulation, policy, and procedures of surveying and boundaries as they have developed since 1973. The 2009 edition of the Manual is also designed to make the cadastral survey process more efficient, avoiding redundant or unnecessary recordkeeping. The 2009 edition includes updates to clarify definitions and incorporate new Departmental requirements and Interior Board of Land Appeals, Interior Board of Indian Appeals, and judicial decisions.

Written Comments

The public is welcome to review and comment on the Manual. Since today's publication is a notice of BLM's issuance of guidance, no formal comment period will occur. Therefore, BLM has no obligation to respond to or address comments from the public. If you choose to submit comments, please confine such comments to issues pertinent to the Manual itself, and explain the reasons for any recommended changes. Where possible, please reference the specific section or paragraph of the Manual which you are addressing. Before including your address, phone number, e-mail address, or other personal identifying information in your comment, you should be aware that your entire comment, including your personal identifying information, may be made publicly available at any time. While you can ask us in your comment to withhold your personal identifying information from public review, we cannot guarantee that we will be able to do so.

Procedural Requirements

Although the Manual is not a rulemaking, we have addressed the various procedural requirements that are generally applicable to proposed and final rulemaking.

Procedural Matters

Regulatory Planning and Review (Executive Order 12866)

Under Executive Order 12866, it has been determined that this action is the implementation of policy and procedures applicable only to the Federal Government and not a significant regulatory action. These policies and procedures would not impose a compliance burden on the general economy.

Administrative Procedure Act

The Manual is not subject to prior notice and opportunity to comment under the Administrative Procedure Act because it is not rulemaking; rather, it contains internal Department of Interior guidance. It is exempt from notice and comment because it constitutes general instructions of policy and procedures, 5 U.S.C. 553(b)(A).

The Regulatory Flexibility Act

The Manual is not subject to notice and comment under the Administrative Procedure Act, and, therefore, is not subject to the analytical requirements of the Regulatory Flexibility Act, 5 U.S.C. 601 et seq. The Manual provides the BLM with instruction and information under the authority of the Secretary of the Interior and does not compel any other party to conduct any action.

Small Business Regulatory Enforcement Fairness Act

This Manual is not a “major rule” as defined at 5 U.S.C. 804(2). That is, the manual will not have an annual effect on the economy of $100 million or more; it will not result in major cost or price increases for consumers, industries, government agencies, or regions; and it will not have significant adverse effects on competition, employment, investment, productivity, innovation, or the ability of U.S.-based enterprises to compete with foreign-based enterprises.

Unfunded Mandates Reform Act of 1995

In accordance with the Unfunded Mandates Reform Act, 2 U.S.C. 1501, et seq., the Manual will not significantly or uniquely affect small governments. A Small Government Agency Plan is not required. The Manual does not require any additional management responsibilities. Further, it is not a significant regulatory action under the Unfunded Mandates Reform Act because the Manual will not produce a Federal mandate of $100 million or greater in any year. These policies and procedures are not expected to have significant economic impacts nor will they impose any unfunded mandates on other Federal, State, or local government agencies to carry out specific activities.

Federalism, Executive Order 13132

In accordance with Executive Order 13132, the Manual does not have significant Federalism effects, and therefore, a Federalism assessment is not required. The policies and procedures will not have substantial direct effects on the States, on the relationship between the Federal government and the States, or on the distribution of power and responsibilities among the various levels of government. No intrusion on State policy or administration is expected; roles or responsibilities of Federal or State governments will not change; and fiscal capacity will not be substantially, directly affected. Therefore, the Manual does not have significant effects on or implications for Federalism.

Paperwork Reduction Act of 1995

The Manual does not require information collection as defined under the Paperwork Reduction Act, 44 U.S.C. 3501 et seq. Therefore, the Manual does not constitute a new information collection system requiring Office of Management and Budget (OMB) approval.

National Environmental Policy Act (NEPA)

The BLM has determined that this 2009 edition of the Manual consists of general instructions of policy and procedure regarding the conduct of official surveys of Federal lands and ownership interests delineated on the ground and described in the official records of the United States. The BLM has developed the Manual in accordance with the National Environmental Policy Act of 1969 (NEPA), 42 U.S.C. 4321 et seq., Council on Environmental Quality (CEQ) regulations, 40 CFR parts 1500-1508, and the Department of the Interior procedures for implementing NEPA, at 43 CFR part 46. The CEQ regulations at 40 CFR 1508.4 define a “categorical exclusion” as a category of actions that do not individually or cumulatively have a significant effect on the human environment. The BLM has determined that the Manual is categorically excluded from further environmental analysis under NEPA in accordance with 43 CFR 46.210(i), which categorically excludes “[p]olicies, directives, regulations and guidelines: that are of an administrative, financial, legal, technical, or procedural nature * * *.” In addition, the BLM has determined that none of the extraordinary circumstances listed in 43 CFR 46.215 applies to the Manual.

Consultation and Coordination With Indian Tribal Governments (Executive Order 13175)

In accordance with Executive Order 13175, and 512 DM 2, the BLM has assessed the Manual's impact on Tribal trust resources and has determined that it does not directly affect Tribal resources since it describes the Department's procedures compliant with extant law, regulation, policy, and procedures for surveys and resurveys.

Effects on the Nation's Energy Supply (Executive Order 13211)

Executive Order 13211, requires a Statement of Energy Effects for significant energy actions. Significant energy actions are actions normally published in the Federal Register that lead to the promulgation of a final rule or regulation and may have any adverse effects on energy supply, distribution, or use. We have explained above that the Manual provides the BLM with instruction and information under the authority of the Secretary of the Interior and does not compel any other party to conduct any action. This Manual is not a rulemaking; and therefore, not subject to Executive Order 13211.

Actions To Expedite Energy-Related Projects (Executive Order 13212)

Executive Order 13212 requires agencies to expedite energy-related projects by streamlining internal processes while maintaining safety, public health, and environmental protections. Today's publication is in conformance with this requirement as it maintains streamlined processes and may enhance certainty as to the location of energy-related project boundaries.

Takings Implication Assessment (Executive Order 12630)

In accordance with Executive Order 12630, the Department has reviewed today's notice to determine whether it would interfere with constitutionally-protected property rights. The Secretary of the Interior shall not execute a resurvey as to impair the bona fide rights or claims of any claimant, entryman, or owner of lands affected by such resurvey, 43 U.S.C. 772. The Manual describes how cadastral surveys are to be made in conformance with statutory law and its judicial interpretation and does not compel any other party to conduct any action.

Dated: September 8, 2009.
Robert V. Abbey,
Director, Bureau of Land Management.

[FR Doc. E9-23216 Filed 9-22-09; 4:15 pm]

BILLING CODE 4310-84-P